DEPARTMENT OF HEALTH AND HUMAN SERVICES

Decision To Evaluate a Petition To Designate a Class of Employees From the Idaho National Laboratory—Idaho Chemical Processing Plant in Scoville, Idaho, To Be Included in the Special Exposure Cohort

AGENCY: National Institute for Occupational Safety and Health (NIOSH), Centers for Disease Control and Prevention, Department of Health and Human Services.

ACTION: Notice.

SUMMARY: NIOSH gives notice of a decision to evaluate a petition to designate a class of employees from the Idaho National Laboratory—Idaho Chemical Processing Plant in Scoville, Idaho, to be included in the Special Exposure Cohort under the Energy Employees Occupational Illness Compensation Program Act of 2000.

FOR FURTHER INFORMATION CONTACT: Stuart L. Hinnefeld, Director, Division of Compensation Analysis and Support, National Institute for Occupational Safety and Health, 1090 Tusculum Avenue, MS C-46, Cincinnati, OH 45226-1938, Telephone 877-222-7570. Information requests can also be submitted by email to DCAS@CDC.GOV.

SUPPLEMENTARY INFORMATION:

Authority: 42 CFR 83.9-83.12.

Pursuant to 42 CFR 83.12, the initial proposed definition for the class being evaluated, subject to revision as warranted by the evaluation, is as follows:

Facility: Idaho National Laboratory—Idaho Chemical Processing Plant.

Location: Scoville, Idaho.

Job Titles and/or Job Duties: “All employees of the Department of Energy, its predecessor agencies, and their contractors and subcontractors who worked at the Idaho National Laboratory (INL) in Scoville, Idaho and who were monitored for external radiation at the Idaho Chemical Processing Plant (CPP) with at least one film badge or thermoluminescent dosimeter from CPP between January 1, 1975 and December 31, 1980 for a number of work days aggregating at least 250 work days, occurring either solely under this employment, or in combination with work days within the parameters established for one or more other classes of employees in the Special Exposure Cohort.”

Period of Employment: January 1, 1975 through December 31, 1980.

John Howard,
Director, National Institute for Occupational Safety and Health.

[FR Doc. 2017-07474 Filed 4-12-17; 8:45 am]

BILLING CODE 4163-19-P